DEPARTMENT OF HEALTH AND HUMAN SERVICES

Administration for Children and Families

Office on Trafficking in Persons; Notice of Charter Renewal and Meeting

AGENCY: Administration for Children and Families (ACF), Department of Health and Human Services.

ACTION: Announcement of charter renewal, meeting, and call for public comments on recommendations to improve the Nation's response to the sex trafficking of children and youth.

SUMMARY: Notice is hereby given, pursuant to the provisions of the Federal Advisory Committee Act (FACA) and the Preventing Sex Trafficking and Strengthening Families Act, that the charter for the of the National Advisory Committee on the Sex Trafficking of Children and Youth in the United States (Committee) was renewed on January 18, 2019. The renewal is available at https://www.acf.hhs.gov/otip/resource/2019naccharter.

Notice is also given that a meeting of the National Advisory Committee on the Sex Trafficking of Children and Youth in the United States (Committee) will be held on May 28, 2019. The purpose of the meeting is for the Committee to discuss its work on its interim report on recommended best practices for States to follow in combating the sex trafficking of children and youth based on multidisciplinary research and promising, evidence-based models and programs. The members will remain in Phoenix on May 29 to conduct subcommittee meetings and a fact finding site visit.

DATES: The meeting will be held on May 28, 2019. The members will remain in Phoenix on May 29 to conduct subcommittee meetings and a fact finding site visit.

ADDRESSES: The meeting will be held in Phoenix, Arizona at the invitation of Governor Ducey. Space is limited. Identification will be required at the entrance of the facility (e.g., passport, state ID, or federal ID).

To attend the meeting virtually, please register for this event online: https://www.acf.hhs.gov/otip/resource/nacagenda0519.

FOR FURTHER INFORMATION CONTACT: Katherine Chon (Designated Federal Officer) at EndTrafficking@acf.hhs.gov or (202) 205-4554 or 330 C Street SW, Washington, DC, 20201. Additional information is available at https://www.acf.hhs.gov/otip/partnerships/the-national-advisory-committee.

SUPPLEMENTARY INFORMATION: The formation and operation of the Committee are governed by the provisions of Public Law 92-463, as amended (5 U.S.C. App. 2), which sets forth standards for the formation and use of federal advisory committees.

Purpose of the Committee: The purpose of the Committee is to advise the Secretary and the Attorney General on practical and general policies concerning improvements to the nation's response to the sex trafficking of children and youth in the United States. HHS established the Committee pursuant to Section 121 of the Preventing Sex Trafficking and Strengthening Families Act of 2014 (Pub. L. 113-183).

Tentative Agenda: The agenda can be found at https://www.acf.hhs.gov/otip/partnerships/the-national-advisory-committee. The Committee requests public comments in response to their first outline of recommendations available at https://www.acf.hhs.gov/otip/resource/nacprelim.

To submit written statements or RSVP to attend in-person or make verbal statements, email Ava.Donald@acf.hhs.gov by May 10, 2019. Please include your name, organization, and phone number. More details on these options are below.

Public Accessibility to the Meeting: Pursuant to 5 U.S.C. 552b and 41 CFR 102-3.140 through 102-3.165, and subject to the availability of space, this meeting is open to the public. Seating is on a first to arrive basis. Security screening and a photo ID are required. Space and parking is limited. The building is fully accessible to individuals with disabilities.

Written Statements: Pursuant to 41 CFR 102-3.105(j) and 102-3.140 and section 10(a)(3) of the Federal Advisory Committee Act, the public may submit written statements in response to the stated agenda of the meeting or to the committee's mission in general. Organizations with recommendations on best practices are encouraged to submit their comments or resources (hyperlinks preferred). Written comments or statements received after April 10, 2019 may not be provided to the Committee until its next meeting.

Verbal Statements: Pursuant to 41 CFR 102-3.140d, the Committee is not obligated to allow a member of the public to speak or otherwise address the Committee during the meeting. Members of the public are invited to provide verbal statements during the Committee meeting only at the time and manner described in the agenda. The request to speak should include a brief statement of the subject matter to be addressed and should be relevant to the stated agenda of the meeting or the Committee's mission in general.

Minutes: The minutes of this meeting will be available for public review and copying within 90 days at: https://www.acf.hhs.gov/otip/partnerships/the-national-advisory-committee.

Dated: March 4, 2019.
Lynn A. Johnson,
Assistant Secretary for Children and Families.

[FR Doc. 2019-04403 Filed 3-8-19; 8:45 am]

BILLING CODE 4184-40-P